DEPARTMENT OF THE TREASURY

Submission for OMB Review; Comment Request

March 26, 2014.

The Department of the Treasury will submit the following information collection request to the Office of Management and Budget (OMB) for review and clearance in accordance with the Paperwork Reduction Act of 1995, Public Law 104-13, on or after the date of publication of this notice.

DATES: Comments should be received on or before April 30, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-0056.

Type of Review: Revision of a currently approved collection.

Title: Application for Recognition of Exemption Under Section 501(c)(3) of the Internal Revenue Code.

Form: 1023 and 1023-EZ.

Abstract: Forms 1023 and 1023-EZ are filed by applicants seeking Federal income tax exemption as organization described in section 501(c)(3). IRS uses the information to determine if the applicant is exempt and whether the applicant is a private foundation. Form 1023-EZ is a simplified version of Form 1023, to be filed by organization who meets certain criteria.

Affected Public: Private Sector: Not-for-profit institutions.

Estimated Number of Annual Respondents: 80,000.

Estimated Annual Burden Hours: 6,936,420.

Reason for Change: The Internal Revenue Service is introducing an “EZ” version of the Form 1023 as an alternative in applying for recognition of exemption from federal income tax under section 501(c)(3). The Form 1023-EZ is a shorter, less burdensome version of the 25-page Form 1023, which may be used if an organization meets specific criteria, as identified in the instructions.

There is an overall increase in the estimated annual burden hours requested due to an increase in the number of respondents, as well as changes to the Form 1023 (as described in IRS Notice 1382). It is estimated that approximately 17 percent of the 80,000 respondents will apply using Form 1023-EZ, which will take 14 hours to complete (compared to 101 hours for the Form 1023).

Dawn D. Wolfgang,
Treasury PRA Clearance Officer.

[FR Doc. 2014-07066 Filed 3-28-14; 8:45 am]

BILLING CODE 4830-01-P